DEPARTMENT OF TRANSPORTATION

Federal Aviation Administration

Notice of Intent To Rule on Application 00-03-C-00-PWM To Impose and Use the Revenue From a Passenger Facility Charge (PFC) at Portland International Jetport, Portland, ME

AGENCY: Federal Aviation Administration (FAA), DOT.

ACTION: Notice of intent to rule on application.

SUMMARY: The FAA proposes to rule and invites public comments on the application to impose and use the revenue from a PFC at Portland International Jetport under the provisions of the 49 U.S.C. 40117 and part 158 of the Federal Aviation Regulations (14 CFR part 158).

DATES: Comments must be received on or before November 6, 2002.

ADDRESSES: Comments on this application may be mailed or delivered in triplicate to the FAA at the following address: Ms. Priscilla Scott, PFC Program Manager, Federal Aviation Administration, Airports Division, 12 New England Executive Park, Burlington, Massachusetts 01803.

In addition, one copy of any comments submitted to the FAA must be mailed or delivered to Mr. Jeff Schultes, Airport Manager, Portland International Jetport at the following address: 1001 Westbrook Street, Portland, Maine 04102.

Air carriers and foreign air carriers may submit copies of written comments previously provided to the City of Portland under section 158.23 of part 158.

FOR FURTHER INFORMATION CONTACT: Priscilla Scott, PFC Program Manager, Federal Aviation Administration, Airports Division, 12 New England Executive Park, Burlington, Massachusetts 01803, (718) 238-7614. The application may be reviewed in person at 16 New England Executive Park, Burlington, Massachusetts.

SUPPLEMENTARY INFORMATION: The FAA proposes to rule and invites public comment on the application to impose and use the revenue from PFC at Portland International Jetport under the provisions of the 49 U.S.C. 40117 and part 158 of the Federal Aviation Regulations (14 CFR part 158).

On September 3, 2002, the FAA determined that the application to impose and use the revenue from a PFC submitted by the City of Portland was substantially complete within the requirements of section 158.25 of part 158. The FAA will approve or disapprove the application, in whole or in part, no later than November 29, 2002.

The following is a brief overview of the application.

Proposed charge effective date: August 1, 2003.

Proposed charge expiration date: June 1, 2010.

Level of the proposed PFC: $3.00.

Total estimated PFC revenue: $14,214,483.

Brief description of proposed project(s):

Impose only projects:

Baggage Claim Expansion and Improvements Impose and use projects:

Terminal Canopy Completion

Passenger Boarding Bridge Acquisition

Passenger Boarding Bridge—Regional Jet Modifications

Runway 11/29 Upgrade

Taxiway Improvements

Terminal Roadway System Expansion

Snow Removal Equipment Acquisition

PFC Program Administration Costs

Class or classes of air carriers which the public agency has requested not be required to collect PFCs: air taxi/commercial operators (ATCO).

Any person may inspect the application in person at the FAA office listed above under FOR FURTHER INFORMATION CONTACT.

In addition, any person may, upon request, inspect the application, notice and other documents germane to the application in person at the Portland International Jetport.

Issued in Burlington, Massachusetts on September 25, 2002.
Bradley A. Davis,
Acting Manager, Airports Division, New England Region.

[FR Doc. 02-25474 Filed 10-4-02; 8:45 am]

BILLING CODE 4910-13-M